DEPARTMENT OF ENERGY

Federal Energy Regulatory Commission

Combined Notice of Filings

Take notice that the Commission has received the following Natural Gas Pipeline Rate and Refund Report filings:

Filings Instituting Proceedings

Docket Numbers: PR23-9-000.

Applicants: Gulf Coast Express Pipeline LLC.

Description: § 284.123(g) Rate Filing: 12.01.2022 GCX Fuel Filing to be effective 12/1/2022.

Filed Date: 11/23/22.

Accession Number: 20221123-5005.

Comment Date: 5 pm ET 12/14/22.

184.123(g) Protest: 5 pm ET 1/23/23.

Docket Numbers: RP23-200-000.

Applicants: Texas Eastern Transmission, LP.

Description: § 4(d) Rate Filing: Negotiated Rates—Cleanup Filing eff 12-1-22 to be effective 12/18/2022.

Filed Date: 11/18/22.

Accession Number: 20221118-5199.

Comment Date: 5 pm ET 11/30/22.

Docket Numbers: RP23-201-000.

Applicants: Guardian Pipeline, L.L.C.

Description: § 4(d) Rate Filing: Removal of Non-Conforming Agreements from Volume 1, Pt 8.0, Sec 38 to be effective 12/22/2022.

Filed Date: 11/21/22.

Accession Number: 20221121-5020.

Comment Date: 5 pm ET 12/5/22.

Docket Numbers: RP23-202-000.

Applicants: El Paso Natural Gas Company, L.L.C.

Description: § 4(d) Rate Filing: Annual Fuel and L&U Filing 2023 to be effective 1/1/2023.

Filed Date: 11/22/22.

Accession Number: 20221122-5077.

Comment Date: 5 pm ET 12/5/22.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: PR23-1-001.

Applicants: Acacia Natural Gas, L.L.C.

Description: Amendment Filing: Amended Statement of Operating Conditions to be effective 10/1/2022.

Filed Date: 11/22/22.

Accession Number: 20221122-5053.

Comment Date: 5 pm ET 12/6/22.

184.123(g) Protest: 5 pm ET 12/6/22.

Docket Numbers: RP11-1591-000.

Applicants: Golden Pass Pipeline LLC.

Description: Refund Report: 2022 Penalty and Revenue Costs Report of Golden Pass Pipeline LLC to be effective N/A.

Filed Date: 11/22/22.

Accession Number: 20221122-5057.

Comment Date: 5 pm ET 12/5/22.

Any person desiring to protest in any the above proceedings must file in accordance with Rule 211 of the Commission's Regulations (18 CFR 385.211) on or before 5:00 p.m. Eastern time on the specified comment date.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 23, 2022.
Kimberly D. Bose,
Secretary.

[FR Doc. 2022-26088 Filed 11-29-22; 8:45 am]

BILLING CODE 6717-01-P